DEPARTMENT OF THE INTERIOR

National Park Service

[NPS-WASO-BSAD-CONC-NPS0038674; PPWOBSADC6, PPMVSCS1Y.Y00000, (244) P103601; OMB Control Number 1024-0233]

Agency Information Collection Activities; Submission to the Office of Management and Budget for Review and Approval; National Park Service Leasing Program

AGENCY: National Park Service, Interior.

ACTION: Notice of information collection; request for comment.

SUMMARY: In accordance with the Paperwork Reduction Act of 1995, we, the National Park Service (NPS) are proposing to renew an information collection.

DATES: Interested persons are invited to submit comments on or before November 4, 2024.

ADDRESSES: Written comments and recommendations for the proposed information collection request (ICR) should be sent within 30 days of publication of this notice to www.reginfo.gov/public/do/PRAMain. Find this particular ICR by selecting “Currently under Review—Open for Public Comments” or by using the search function. Please provide a copy of your comments to Phadrea Ponds, NPS Information Collection Clearance Officer (ADIR-ICCO), 13461 Sunrise Valley Drive (MS-244) Herndon, VA 20171; or at phadrea_ponds@nps.gov (email). Please reference OMB Control Number 1024-0233 in the subject line of your comments.

FOR FURTHER INFORMATION CONTACT: To request additional information about this ICR, contact Gordy Kito, Leasing Program Manager, Commercial Services Division by email at gordy_kito@nps.gov; or by telephone at 202-354-2096. Please reference OMB Control Number 1024-0233 in the subject line of your comments. Individuals in the United States who are deaf, deafblind, hard of hearing, or have a speech disability may dial 711 (TTY, TDD, or TeleBraille) to access telecommunications relay services. Individuals outside the United States should use the relay services offered within their country to make international calls to the point of contact in the United States. You may also view the ICR at http://www.reginfo.gov/public/do/PRAMain.

SUPPLEMENTARY INFORMATION: In accordance with the Paperwork Reduction Act of 1995 (PRA, 44 U.S.C. 3501 et seq.) and 5 CFR 1320.8(d)(1) we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on January 12, 2024 (89 FR 2240). No Comments were received.

As part of our continuing effort to reduce paperwork and respondent burdens, we are again soliciting comments from the public and other Federal agencies on the proposed ICR that is described below. We are especially interested in public comment addressing the following:

(1) Whether or not the collection of information is necessary for the proper performance of the functions of the agency, including whether or not the information will have practical utility.

(2) The accuracy of our estimate of the burden for this collection of information, including the validity of the methodology and assumptions used.

(3) Ways to enhance the quality, utility, and clarity of the information to be collected.

(4) How might the agency minimize the burden of the collection of information on those who are to respond, including through the use of appropriate automated, electronic, mechanical, or other technological collection techniques or other forms of information technology, e.g., permitting electronic submission of response.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: The NPS Leasing Program allows any person or government entity to lease buildings and associated property administered by the Secretary of the Interior as part of the National Park System, under the authority of the Director of the NPS. A lease may not authorize an activity that could be authorized by a concessions contract or commercial use authorization. All leases must provide for the payment of fair market value rent. The Director may retain rental payments for park infrastructure needs and, in some cases, to provide administrative support of the leasing program.

The authority to collect information for the Leasing Program is derived from 54 U.S.C. 102101 et seq., 54 U.S.C. 306121, and 36 CFR part 18. For competitive leasing opportunities, the regulations require the submission of proposals, or bids by parties interested in applying for a lease. The regulations also require that the Director approve lease amendments, construction or demolition of structures, and encumbrances on leasehold interests.

We collect information from anyone who wishes to submit a bid or proposal to lease a property. The Director may issue a request for bids if the amount of rent is the only criterion for award of a lease. The Director issues a request for proposals when the award of a lease is based on selection criteria other than the rental rate. A request for proposals may be preceded by a request for qualifications to select a “short list” of potential offerors that meet the minimum management, financial, and other qualifications necessary for the submission of a proposal.

We use the information collected to evaluate offers, proposed subleases or assignments, proposed construction or demolition, the merits of proposed lease amendments, and proposed encumbrances. The completion times for each information collection requirement vary substantially depending on the complexity of the leasing opportunity.

Title of Collection: National Park Service Leasing Program, 36 CFR part 18.

OMB Control Number: 1024-0233.

Form Number: NPS Forms 10-352, 10-353, 10-354, 10-355A and 10-355B.

Type of Review: Extension of a currently approved collection.

Respondents/Affected Public: Individuals and businesses seeking to submit a bid or proposal to lease NPS property.

Total Estimated Number of Annual Responses: 250.

Estimated Completion Time per Response: Varies from 1 hour to 45 hours, depending on activity.

Total Estimated Number of Annual Burden Hours: 1,649.

Respondent's Obligation: Required to obtain or retain a benefit.

Frequency of Collection: On occasion.

Total Estimated Annual Nonhour Burden Cost: None.

An agency may not conduct or sponsor and a person is not required An agency may not conduct or sponsor and a person is not required to respond to a collection of information unless it displays a currently valid OMB control number.

The authority for this action is the Paperwork Reduction Act of 1995 (44 U.S.C. 3501 et seq.).

Phadrea Ponds,
Information Collection Clearance Officer, National Park Service.

[FR Doc. 2024-22816 Filed 10-2-24; 8:45 am]

BILLING CODE 4312-52-P